ENVIRONMENTAL PROTECTION AGENCY

[FRL-7273-4]

Ecological Risk Assessment for the Middle Snake River, Idaho

AGENCY: Environmental Protection Agency.

ACTION: Notice of availability of final document.

SUMMARY: The U.S. Environmental Protection Agency (EPA) announces the availability of a final document, Ecological Risk Assessment for the Middle Snake River, Idaho (EPA/600/R-01/017, February 2002), prepared as a collaborative effort between the National Center for Environmental Assessment-Washington (NCEA-W), within EPA's Office of Research and Development; the Office of Environmental Assessment, Region 10 of the EPA; the University of Idaho; and the University of Illinois. Mathematical models and field observations were used to estimate ecological risks to rainbow trout, mountain whitefish, and white sturgeon from stressors such as reduced water flows and sedimentation. The report serves as an example of using ecological risk assessment to improve the use of sound science in watershed-scale decision making.

ADDRESSES: The document is available electronically from the NCEA Web site (http://www.epa.gov/ncea) under Selected Topics, Watershed Assessment. A limited number of copies will be available from EPA's National Service Center for Environmental Publications (NSCEP) in Cincinnati, Ohio (telephone: 1-800-490-9198, or 513-489-8190; facsimile 513-489-8695). Please provide the title and EPA number when ordering from NSCEP. Documents also may be ordered via the Internet at http://www.epa.gov/NCEPIhome/orderpub.html. Paper copies may be purchased from the National Technical Information Service (NTIS) in Springfield, VA (1-800-553-NTIS[6847] or 703-605-6000; facsimile 703-321-8547). Please provide the number, PB2002-104231, for this document when ordering from NTIS.

FOR FURTHER INFORMATION CONTACT: For further information, please contact Victor Serveiss (202-564-3251); mailing address: NCEA-W (8623D), U.S. Environmental Protection Agency, Washington, DC 20460; facsimile: 202-565-0076; e-mail: serveiss.victor@epa.gov, or Patricia Cirone (206-553-1597); mailing address: Region X, MS-OEA-095, 1200 Sixth Avenue, Seattle, Washington 98101; e-mail: cirone.patricia@epa.gov.

Dated: August 27, 2002.
George W. Alapas,
Acting Director, National Center for Environmental Assessment.

[FR Doc. 02-22731 Filed 9-5-02; 8:45 am]

BILLING CODE 6560-50-P